DEPARTMENT OF TRANSPORTATION

National Highway Traffic Safety Administration

[U.S. DOT Docket Number NHTSA-2008-0033]

Reports, Forms and Recordkeeping Requirements

AGENCY: National Highway Traffic Safety Administration (NHTSA), U.S. Department of Transportation.

ACTION: Request for public comment on renewal of existing information collections.

SUMMARY: Before a Federal agency can collect certain information from the public, it must receive approval from the Office of Management and Budget (OMB). Under procedures established by the Paperwork Reduction Act of 1995, before seeking OMB approval, Federal agencies must solicit public comment on proposed collections of information, including extensions and reinstatement of previously approved collections. This document describes a renewal of existing information collections for which NHTSA intends to seek OMB approval.

DATES: Comments must be received on April 22, 2008.

ADDRESSES: Comments must refer to the docket notice numbers cited at the beginning of this notice and be submitted to Docket Management Facility, U.S. Department of Transportation, 1200 New Jersey Avenue, SE., West Building, Ground Floor, Room W12-140, Washington, DC 20590-0001. Please identify the proposed collection of information for which a comment is provided. It is requested, but not required, that one (1) original plus two (2) copies of the comment be provided. The docket section is open on weekdays from 10 a.m. to 5 p.m.

FOR FURTHER INFORMATION CONTACT: Larry Hershman, Office of Defects Investigation, NHTSA, 1200 New Jersey Avenue, SE., West Building, NVS-222, Washington, DC 20590. Telephone: (202) 366-4929.

SUPPLEMENTARY INFORMATION: Under the Paperwork Reduction Act of 1995 (PRA), before an agency submits a proposed collection of information to OMB for approval, it must first publish a document in the Federal Register providing a 60-day comment period and otherwise consult with members of the public and affected agencies concerning the proposed collection of information. OMB has promulgated regulations describing what must be included in such a document. Under OMB's regulation (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected;

(iv) How to minimize the burden of the collection of information on those who are to respond, including the use of appropriate automated, electronic, mechanical, or other technological collection techniques or other forms of information technology, e.g., permitting electronic submission of responses.

In compliance with these requirements, NHTSA asks for public comments on the renewal of the following described collections of information:

Title: Record Retention.

Type of Request: Revision of a currently approved information collection.

OMB Control Number: 2127-0042.

Affected Public: Business or other for-profit.

Abstract: Under 49 U.S.C. 30166(e), NHTSA “reasonably may require a manufacturer of a motor vehicle or motor vehicle equipment to keep records, and a manufacturer, distributor, or dealer to make reports, to enable [NHTSA] to decide whether the manufacturer, distributor or dealer has complied or is complying with this chapter or a regulation prescribed or order issued under this chapter.”

To ensure that NHTSA will have access to this type of information, the agency exercised the authority granted in 49 U.S.C. 30166(e) and promulgated 49 CFR part 576, Record Retention, initially published on August 20, 1974 [39 FR 30045] and most recently amended on July 10, 2002 [67 FR 45873], requiring manufacturers to retain one copy of all records that contain information concerning malfunctions that may be related to motor vehicle safety for a period of five calendar years after the record is generated or acquired by the manufacturer. Part 576 also requires manufacturers to retain for five years the underlying records related to early warning reporting (EWR) information submitted under 49 CFR part 579.

Estimated Annual Burden: Approximately one thousand manufacturers of vehicles and equipment (including tires and child restraint systems) are required to maintain records. We estimate their burden at 40 hours each for a subtotal of 40,000 hours (1,000 respondents × 40 hours). In addition, there are approximately 23,600 equipment manufacturers (excluding child seat and tire manufacturers) whose record retention requirements under part 576 are limited to the documents underlying their part 579 reporting requirements. Their part 579 requirements include only the reporting of incidents involving deaths. Therefore, based on the number of death reports submitted to date by these equipment manufacturers, we estimate that an additional 20 equipment manufacturers have record retention requirements imposed by part 576. We estimate that it will take one hour each to maintain the necessary records for a subtotal burden of 20 hours (20 respondents × one hour). Accordingly, the estimate of total annual burden hours is 40,020 hours (1,000 respondents × 40 hours plus 20 respondents × 1 hour).

Number of Respondents: 1,020.

Kathleen C. DeMeter,
Director, Office of Defects Investigation, Office of Enforcement.

[FR Doc. E8-3269 Filed 2-21-08; 8:45 am]

BILLING CODE 4910-59-P